DEPARTMENT OF THE INTERIOR

Bureau of Land Management

[LLAZC03000.L12200000.EA0000.AZ-SRP-030-21-01]

Notice of Temporary Closure and Restrictions of Selected Public Lands in Mohave County, AZ

AGENCY: Bureau of Land Management, Interior.

ACTION: Notice of temporary closure and restrictions.

SUMMARY: Notice is hereby given that temporary closures and restrictions of activities will be in effect on public lands administered by the Bureau of Land Management (BLM), Lake Havasu Field Office, to minimize the risk of potential collisions with spectators and racers during the permitted operation of the 2020 Mad Media UTV World Championship desert races.

DATES: The temporary closure will be in effect from 7 a.m., October 8, 2020, through midnight, October 10, 2020. The temporary restrictions will be in effect from 8 a.m., October 7, 2020, through midnight, October 10, 2020.

FOR FURTHER INFORMATION CONTACT: Jason West, Field Manager, BLM Lake Havasu Field Office, 1785 Kiowa Avenue, Lake Havasu City, Arizona 86403; telephone 928-505-1200. Also see the Lake Havasu Field Office website: https://www.blm.gov/office/lake-havasu-field-office. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The temporary closure and restrictions affect public lands in the Standard Wash Off-Highway Vehicle (OHV) Open Area near Lake Havasu City, Mohave County, Arizona. Location of the temporary closure and restrictions are depicted on maps found online at the BLM National Environmental Policy Act (NEPA) Register web page: https://go.usa.gov/xfPtM. In addition, the closure, restrictions, and maps of the closure area will be posted at event access points, available at the Lake Havasu Field Office, and posted on the BLM external web page: https://www.blm.gov/office/lake-havasu-field-office.

The closure and restrictions are issued under the authority of 43 CFR 8364.1, which allows the BLM to establish closures for the protection of persons, property, and public lands and resources. Violation of any of the terms, conditions, or restrictions contained within this closure order may subject the violator to citation or arrest with a penalty or fine or imprisonment, or both as specified by law.

Temporary Closure and Restrictions and Existing Regulations

l. Environmental Resource Management and Protection

a. No person may deface, disturb, remove, or destroy any natural object.

b. Fireworks: The use, sale, or possession of personal fireworks is prohibited.

c. Cutting or collecting firewood of any kind, including dead and downed wood or other vegetative material is prohibited.

d. Grey Water Discharge: The discharge and dumping of grey water onto the ground surface is prohibited. Grey water is defined as water that has been used for cooking, washing, dishwashing, or bathing and/or contains soap, detergent, food scraps, or food residue, regardless of whether such products are biodegradable or have been filtered or disinfected.

e. Black Water Discharge: The discharge and dumping of black water onto the ground surface is prohibited. Black water is defined as wastewater containing feces, urine, and/or flush water.

f. Human Waste: The depositing of human waste (liquid and/or solid) on the ground surface is prohibited.

g. Trash: The discharge of all trash/litter onto the ground surface is prohibited. All event participants must pack out or properly dispose of all trash at an appropriate disposal facility.

h. Hazardous Materials: The dumping or discharge of vehicle oil, petroleum products, or other hazardous household, commercial, or industrial refuse or waste onto the ground surface is prohibited. This applies to all recreational vehicles, trailers, motorhomes, port-a-potties, generators, and other camp infrastructure.

2. Alcohol/Prohibited Substance

a. Possession of an open container of an alcoholic beverage by the driver or operator of any motorized vehicle, whether or not the vehicle is in motion, is prohibited.

b. Possession of alcohol by minors. The following are prohibited:

i. Consumption or possession of any alcoholic beverage by a person under 21 years of age on public lands; and

ii. Selling, offering to sell, or otherwise furnishing or supplying any alcoholic beverage to a person under 21 years of age on public lands.

c. Operation of a motor vehicle while under the influence of alcohol, marijuana, narcotics, or dangerous drugs is prohibited.

3. Drug Paraphernalia

a. The possession of drug paraphernalia is prohibited.

4. Disorderly Conduct

a. Disorderly conduct is prohibited. Disorderly conduct means that an individual, with the intent of recklessly causing public alarm, nuisance, jeopardy, or violence, or recklessly creating a risk thereof:

i. Engages in fighting or violent behavior;

ii. Uses language, an utterance or gesture, or engages in a display or act that is physically threatening or menacing, or done in a manner that is likely to inflict injury or incite an immediate breach of the peace; or

iii. Obstructs, resists, or attempts to elude a law enforcement officer, or fails to follow their orders or directions.

5. Eviction of Persons

a. The temporary closure and restriction area is closed to any person who:

i. Has been evicted from the event by the permit holder, whether or not the eviction was requested by the BLM;

ii. Has been evicted from the event by the BLM; or

iii. Has been ordered by a law enforcement officer to leave the area of the permitted event.

b. Any person evicted from the event forfeits all privileges to be present within the temporary closure and restriction area.

6. Motor Vehicles

a. Motor vehicles must comply with the following requirements:

i. The operator of a motor vehicle must possess a valid driver's license.

ii. Motor vehicles and trailers must possess evidence of valid registration.

iii. Motor vehicle operators must possess evidence of valid insurance.

iv. Motor vehicles and trailers must not block a street used for vehicular travel or a pedestrian pathway. Parking any off-highway vehicle in violation of posted restrictions; or in such a manner as to obstruct or impede normal or emergency traffic movement or the parking of other vehicles; creating a safety hazard; or endangering any person, property, or feature is prohibited. Vehicles parked in violation are subject to citation, removal, and/or impoundment at the owner's expense.

v. Motor vehicles must not exceed the posted speed limit.

vi. Operating a vehicle through, around, or beyond a restrictive sign, barricade, fence, or traffic control barrier or device is prohibited.

vii. Failure to obey any person authorized to direct traffic or control access to the event area, including law enforcement officers, BLM officials, and designated race officials, is prohibited.

b. The temporary closure area is closed to motor vehicle use, except as provided below. Motor vehicles may be operated within the temporary closure area under the circumstances listed below:

i. Race participants and support vehicles on designated routes;

ii. BLM, medical, law enforcement, and firefighting vehicles are authorized at all times; or

iii. Vehicles operated by the permit holder's staff or contractors and volunteers are authorized at all times. These vehicles must display evidence of event registration at all times in such a manner that it is visible at the front of the vehicle while the vehicle is in motion.

7. Public Camping

a. The temporary closure and restriction area is closed to public camping with the following exceptions:

i. The permitted event's spectators, who are camped in designated spectator areas, as marked by protective fencing, barriers, and informational signage provided by the permit holder; or

ii. The permit holder's authorized staff, contractors, and BLM-authorized event managers.

b. Spectator area site reservations, denying other visitors or parties from utilizing unoccupied portions of the spectator area by marking with flags, tape, posts, cones, etc., is prohibited. Vehicles and trailers may not be left unattended for over 72 hours.

c. Allowing any pet or other animal to be unrestrained is prohibited. All pets must be restrained by a leash of not more than six feet in length.

d. Failure to observe restricted area quiet hours of midnight to 6 a.m. is prohibited.

8. Weapons

a. Discharging or use of firearms or other weapons is prohibited.

b. The prohibition above shall not apply to county, state, tribal and Federal law enforcement personnel who are working in their official capacity at the event.

9. Racecourse Closure

a. The designated racecourse as shown in the Lake Havasu Field Office approved Resource Management Plan and Decision Record is closed to public entry during the temporary closure.

b. The temporary closure area is closed to use by members of the public with the following exceptions:

i. The person is an employee or authorized volunteer with the BLM, a law enforcement officer, emergency medical service provider, fire protection provider, or another public agency employee working at and assigned to the event; or

ii. The person is working at or attending the event directly on behalf of the permit holder.

c. Failure to obey any official sign posted by the BLM, law enforcement, Mohave County, or the permit holder is prohibited.

Enforcement: Any person who violates these closure rules may be tried before a United States Magistrate and fined in accordance with 18 U.S.C. 3571, imprisoned no more than 12 months under 43 U.S.C. l733(a) and 43 CFR 8360.0-7, or both. In accordance with 43 CFR 8365.1-7, State or local officials may also impose penalties for violations of Arizona law. A complete list of laws and regulations applicable to public lands in Arizona may be viewed at: http://www.azd.uscourts.gov/sites/default/files/general-orders/19-14.pdf.

Authority: 43 CFR 8364.l.

Jason West,
Field Manager.

[FR Doc. 2020-19765 Filed 9-4-20; 8:45 am]

BILLING CODE 4310-32-P